DEPARTMENT OF TRANSPORTATION

National Highway Traffic Safety Administration

[Docket No. NHTSA-2000-7523; Notice 2]

Decision That Nonconforming 1997 Chevrolet Blazer Multi-Purpose Passenger Vehicles Are Eligible for Importation

AGENCY: National Highway Traffic Safety Administration (NHTSA), DOT.

ACTION: Notice of decision by NHTSA that nonconforming 1997 Chevrolet Blazer multi-purpose passenger vehicles (MPVs) are eligible for importation.

SUMMARY: This notice announces the decision by NHTSA that 1997 Chevrolet Blazer MPVs not originally manufactured to comply with all applicable Federal motor vehicle safety standards are eligible for importation into the United States because they are substantially similar to vehicles originally manufactured for sale in the United States and certified by their manufacturer as complying with the safety standards (the U.S. certified version of the 1997 Chevrolet Blazer), and they are capable of being readily altered to conform to the standards.

DATES: This decision is effective May 21, 2001.

FOR FURTHER INFORMATION CONTACT: George Entwistle, Office of Vehicle Safety Compliance, NHTSA (202-366-5306).

SUPPLEMENTARY INFORMATION:

Background

Under 49 U.S.C. § 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Wallace Environmental Testing Laboratories, Inc. of Houston, Texas (”WETL”) (Registered Importer 90-005) petitioned NHTSA to decide whether 1997 Chevrolet Blazer MPVs are eligible for importation into the United States. NHTSA published notice of the petition on July 13, 2000 (65 FR 44851) to afford an opportunity for public comment. The reader is referred to that notice for a thorough description of the petition.

One comment was received in response to the notice of the petition, from General Motors Corporation (“GM”), the manufacturer of the 1997 Chevrolet Blazer. In this comment, GM stated that during the 1997 model year, GM and its subsidiaries and affiliates assembled Chevrolet Blazers at several locations around the world. Those intended for sale in the United States, Canada, and some other world markets, were produced at two assembly plants located within the United States, at Linden, New Jersey (identified by plant code “K” in the 11th position of the vehicle identification number or “VIN” assigned to the vehicle) and at Moraine, Ohio, (identified by plant code “2” in the 11th position of the VIN).

GM stated that production of 1997 Chevrolet Blazers also occurred at a number of plants outside of the United States. GM stated that in order to satisfy unique market conditions and local regulations, vehicles produced at these foreign plants differed from those produced domestically in a number of respects, including the interior trim, chassis, and powertrain components with which they were built. Owing to the design and part differences between the 1997 Chevrolet Blazers produced domestically, and those produced overseas for foreign markets, GM stated that there is no assurance that the vehicles produced overseas would comply with all applicable Federal motor vehicle safety standards. GM noted that it does not typically perform tests or evaluations to determine the compliance of foreign market vehicles with the Federal standards because the vehicles were never intended for sale or use in the U.S. market. GM further observed that Blazers built overseas for foreign markets may contain locally sourced parts that are not subject to the same manufacturing, warranty, and approval process used within GM's North American operations and that these foreign sourced parts may have an impact on the vehicles' conformity with the Federal motor vehicle safety standards.

In light of these considerations, GM expressed the opinion that only the U.S. manufactured versions of the subject vehicles (those with plant codes “K” or “2” in the 11th position of their VINs) should be considered substantially similar to vehicles originally manufactured for sale in the U.S. and capable of being modified to comply with the Federal motor vehicle safety standards. GM contended that “subject vehicles manufactured at all other locations should not be considered substantially similar to vehicles originally manufactured for sale in the U.S. and, thus, not eligible for importation.”

NHTSA accorded WETL an opportunity to respond to GM's comments. WETL stated that the 1997 Chevrolet Blazers that are the subject of its petition are U.S. manufactured vehicles with plant codes “K” or “2” in the 11th position of their VINs. WETL therefore did not challenge GM's contention that vehicles with plant codes other than these should not be considered substantially similar to U.S.-certified models and therefore eligible for importation. In view of GM's comments and WETL's response, NHTSA has decided to grant import eligibility only to 1997 Chevrolet Blazers with the plant code “K” or “2” in the eleventh character of their VINs.

Vehicle Eligibility Number for Subject Vehicles

The importer of a vehicle admissible under any final decision must indicate on the form HS-7 accompanying entry the appropriate vehicle eligibility number indicating that the vehicle is eligible for entry. VSP-349 is the vehicle eligibility number assigned to vehicles admissible under this notice of final decision.

Final Decision

Accordingly, on the basis of the foregoing, NHTSA hereby decides that 1997 Chevrolet Blazer MPVs that were not originally manufactured to comply with all applicable Federal motor vehicle safety standards, but that have been assigned vehicle identification numbers in which the letter “K” or the number “2” is the eleventh character, are substantially similar to 1997 Chevrolet Blazer MPVs originally manufactured for importation into and sale in the United States and certified under 49 U.S.C. 30115, and are capable of being readily altered to conform to all applicable Federal motor vehicle safety standards.

Authority: 49 U.S.C. 30141(a)(1)(A) and (b)(1); 49 CFR 593.8; delegations of authority at 49 CFR 1.50 and 501.8.

Marilynne Jacobs,
Director, Office of Vehicle Safety, Compliance.

[FR Doc. 01-12729 Filed 5-18-01; 8:45 am]

BILLING CODE 4910-59-P